DEPARTMENT OF TRANSPORTATION

Federal Railroad Administration

Petition for Waiver of Compliance

In accordance with part 211 of title 49 Code of Federal Regulations (CFR), notice is hereby given that the Federal Railroad Administration (FRA) received a request for a waiver of compliance with the rule. The individual petition is described below, including the party seeking relief, the regulatory provisions involved, the nature of the relief being requested, and the petitioner's arguments in favor of relief.

Union Railroad Company

Waiver Petition Docket Number FRA-2005-21013

The Union Railroad Company (URC), further herein identified as the railroad, seeks approval for a waiver of compliance with the requirements of Reflectorization of Rail Freight Rolling Stock contained in 49 CFR part 224. Specifically, URC seeks a waiver from the requirements of 49 CFR part 224 for 154 slab rack cars, 238 coke rack hopper cars and 283 gondola cars. The railroad asserts that these cars travel exclusively on their property at speeds of 20 mph or less and that there are only three public road crossings over which the cars traverse. The railroad has requested that it be exempt from applying the required retro-reflective material tape to the sides of these freight cars.

Interested parties are invited to participate in these proceedings by submitting written views, data, or comments. Each comment shall set forth specifically the basis upon which it is made, and contain a concise statement of the interest of the commenter in the proceeding. FRA does not anticipate scheduling a public hearing in connection with these proceedings since the facts do not appear to warrant a hearing. If any interested Party desires an opportunity for oral comment, they should notify FRA, in writing, before the end of the comment period and specify the basis for their request.

All communications concerning these proceedings should identify the appropriate docket number (FRA-2005-21013) and must be submitted to the Docket Clerk, DOT Docket Management Facility, Room PL-401 (Plaza Level), 400 7th Street, SW., Washington, DC 20590. Communications received within 30 days of the date of this notice will be considered by FRA before final action is taken. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.) You may review DOT's complete Privacy Act Statement in the Federal Register published on April 11, 2000 (Volume 65, Number 70; Pages 19477-78). The statement may also be found at http://dms.dot.gov.

Issued in Washington, DC on September 12, 2005.
Grady C. Cothen, Jr.,
Deputy Associate Administrator for Safety Standards and Program Development.

[FR Doc. 05-18483 Filed 9-15-05; 8:45 am]

BILLING CODE 4910-06-P